ENVIRONMENTAL PROTECTION AGENCY

40 CFR Parts 152, 156, 167, 168, 169, 172, and 174

[EPA-HQ-OPP-2006-1003; FRL-8132-1]

RIN 2070-AJ32

Plant-Incorporated Protectants; Potential Revisions to Current Production Regulations; Extension of Comment Period

AGENCY: Environmental Protection Agency (EPA).

ACTION: Advance Notice of Proposed Rulemaking (ANPRM); extension of comment period.

SUMMARY: EPA is extending the comment period for an ANPRM document concerning potential revisions to current production regulations for producers of plant-incorporated protectants (PIPs) published in the Federal Register of April 4, 2007. This document extends the comment period for an additional 30 days. The comment period is extended because EPA received a request from the Association of American Pesticide Control Officials (AAPCO), the association representing State pesticide regulatory officials. The extended comment period will allow State regulators to consider the ANPRM at the State-FIFRA Issues Research and Evaluation Group (SFIREG) national meeting June 25-26, 2007, and submit comments representing the consensus of their membership.

DATES: Comments must be received on or before July 13, 2007.

ADDRESSES: Follow the detailed instructions provided under ADDRESSES in the ANPRM published in the Federal Register of April 4, 2007.

FOR FURTHER INFORMATION CONTACT: Stephen Howie, Hazard Assessment Coordination and Policy Division, Office of Science Coordination and Policy, Environmental Protection Agency, 1200 Pennsylvania Ave., NW., Washington, DC 20460-0001; telephone number: (202) 564-4146; fax number: (202) 564-8502; e-mail address: howie.stephen@epa.gov.

SUPPLEMENTARY INFORMATION:

I. General Information

A. Does this Action Apply to Me?

The Agency identified in the ANPRM those who may be potentially affected by that action. If you have questions regarding the applicability of this action to a particular entity, consult the person listed under FOR FURTHER INFORMATION CONTACT.

B. How and to Whom Do I Submit Comments?

To submit comments, or access the public docket, follow the detailed instructions provided in Unit I.B of the SUPPLEMENTARY INFORMATION of the April 4, 2007 ANPRM.

II. What Action is EPA Taking?

This document extends the comment period established in the ANPRM published in the Federal Register of April 4, 2007 (72 FR 16312) (FRL-8118-2). In that document, EPA stated that it is considering amendments to the current pesticide establishment and production regulations promulgated under the Federal Insecticide, Fungicide, and Rodenticide Act (FIFRA), and to other related FIFRA regulations as needed for producers of PIPs. EPA is extending the comment period, which expires on June 13, 2007, for an additional 30 days. The new comment period ends on July 13, 2007. The comment period is extended because EPA received a request from the AAPCO, the association representing State pesticide regulatory officials. The extended comment period will allow State regulators to consider the ANPRM at the State-FIFRA Issues Research and Evaluation Group (SFIREG) national meeting June 25-26, 2007, and submit comments representing the consensus of their membership.

List of Subjects in 40 CFR Parts 152, 156, 167, 168, 169, 172, 174

Environmental protection, Pesticides and pests, Plant-incorporated protectants, Reporting and recordkeeping requirements.

Dated: May 15, 2007.
James B. Gulliford,
Assistant Administrator, Office of Prevention, Pesticides and Toxic Substances.

[FR Doc. E7-9847 Filed 5-22-07; 8:45 am]

BILLING CODE 6560-50-S